DEPARTMENT OF LABOR

Employment and Training Administration

[TA-W-60,365]

KHS USA, Inc.; Waukesha Division; A Wholly Owned Subsidiary of KHS AG; Waukesha, WI; Dismissal of Application for Reconsideration

Pursuant to 29 CFR 90.18(C) an application for administrative reconsideration was filed with the Director of the Division of Trade Adjustment Assistance for workers at KHS USA, Inc., Waukesha Division, a wholly owned subsidiary of KHS AG, Waukesha, Wisconsin. The application did not contain new information supporting a conclusion that the determination was erroneous, and also did not provide a justification for reconsideration of the determination that was based on either mistaken facts or a misinterpretation of facts or of the law. Therefore, dismissal of the application was issued.

TA-W-60,365; KHS USA, Inc., Waukesha Division,A Wholly Owned Subsidiary of KHS AG, Waukesha, Wisconsin (February 1, 2007).

Signed at Washington, DC, this 2nd day of February 2007.
Ralph DiBattista,
Director, Division of Trade Adjustment Assistance.

[FR Doc. E7-2161 Filed 2-8-07; 8:45 am]

BILLING CODE 4510-30-P